ENVIRONMENTAL PROTECTION AGENCY

[FRL-7562-3]

Notice of Extension of Public Comment Period on the Framework for Application of the Toxicity Equivalence Methodology for Polychlorinated Dioxins, Furans and Biphenyls in Ecological Risk Assessment (External Review Draft)

AGENCY: Environmental Protection Agency (EPA).

ACTION: Notice of extension of public comment period.

SUMMARY: This notice extends the comment period for the Framework for Application of the Toxicity Equivalence Methodology for Polychlorinated Dioxins, Furans and Biphenyls in Ecological Risk Assessment (External Review Draft). The availability of this document was originally announced in the Federal Register on July 30, 2003 (68 FR 44784).

DATES: Comments must be received by Wednesday, October 29, 2003.

ADDRESSES: The document is available via the Internet from http://cfpub.epa.gov/ncea/raf/recordisplay.cfm?deid=55669. Instructions for submitting comments are provided in the July 30, 2003 Federal Register notice, which is accessible from this Web site.

FOR FURTHER INFORMATION CONTACT: Dr. William P. Wood, Risk Assessment Forum (mail code 8601D), U.S. Environmental Protection Agency, 1200 Pennsylvania Avenue, NW., Washington, DC 20460, telephone 202-564-3361, or send electronic mail inquiries to risk.forum@epa.gov.

SUPPLEMENTARY INFORMATION: In the July 30, 2003 Federal Register (68 FR 44784), EPA announced the availability of, and opportunity to comment on, the Framework for Application of the Toxicity Equivalence Methodology for Polychlorinated Dioxins, Furans, and Biphenyls in Ecological Risk Assessment (External Review Draft, June, 2003, EPA/630/R-03/002A). The comment period was scheduled to close on September 29, 2003. This notice extends the comment period until October 29, 2003. EPA will consider all comments received by this date in finalizing the document.

As announced in the Federal Register July 30, 2003, a panel of external experts, organized by Versar, Inc., a contractor to EPA, will review this document concurrent to the public comment period described in this notice.

Dated: September 10, 2003.
Peter W. Preuss,
Director, National Center for Environmental Assessment.

[FR Doc. 03-24005 Filed 9-18-03; 12:01 pm]

BILLING CODE 6560-50-P